DEPARTMENT OF THE INTERIOR

National Park Service

[NPS-WASO-D-COS-POL-26448; PPWODIREP0] [PPMVSCS1Y.Y00000]

Request for Nominations for the Made in America Outdoor Recreation Advisory Committee

AGENCY: National Park Service, Interior.

ACTION: Notice.

SUMMARY: The National Park Service, U.S. Department of the Interior, is seeking nominations for individuals to be considered for appointment to the Made in America Outdoor Recreation Advisory Committee (Committee). The Committee provides advice to the Secretary of the Interior (Secretary) on the public-private partnerships across all public lands, with the goal of expanding access to and improving infrastructure on public lands and waterways.

DATES: Nominations must be postmarked by November 21, 2018.

ADDRESSES: Nominations should be sent to Shirley Sears, Office of Policy, National Park Service, 1849 C Street NW, Mail Stop 2659, Washington, DC 20240.

FOR FURTHER INFORMATION CONTACT: Shirley Sears, Office of Policy, National Park Service, 1849 C Street NW, Mail Stop 2659, Washington, DC 20240, telephone number 202-354-3955, or email shirley_sears@nps.gov.

SUPPLEMENTARY INFORMATION: The Committee has been established as a discretionary committee by authority of the Secretary under 54 U.S.C. 100906, and is regulated by the Federal Advisory Committee Act (FACA), as amended (5 U.S.C. Appendix 1-16).

The Committee's duties are strictly advisory and include, but are not limited to, providing recommendations on policies and programs that: Expand and improve visitor infrastructure developed through public-private partnerships; implement sustainable operations embracing fair, efficient, and convenient fee collection and strategic use of the collected fees; improve interpretation using technology; and create better tools and/or opportunities for Americans to discover their lands and waters. The Committee also provides recommendations for implementation of Secretary's Order 3347—Conservation Stewardship and Outdoor Recreation.

The Committee meets approximately two times per year. The Secretary appoints members and their alternates to the Committee to serve up to a 3-year term. The Committee will not exceed 18 discretionary and 2 ex officio members.

Nominations are currently being sought for consideration in appointing two discretionary members to the Committee from among, but not limited to, the entities listed below. The nominees must be senior-level representatives of their organizations.

• Camping, recreational, and/or all-terrain vehicle (ATV) industries

• Tourism and/or guide industries related to outdoor recreation

• Hospitality industries

• Outdoor outfitter industries

• Saltwater and freshwater recreational fishing organizations

• Recreational boating organizations

• Industrial manufacturing industries

• Transportation industries

Nominations should be typed and must include a resume providing an adequate description of the nominee's qualifications, including information that would enable the Department of the Interior (DOI) to make an informed decision regarding meeting the membership requirements of the Committee and to permit the DOI to contact a potential member.

Members of the Committee serve without compensation. However, while away from their homes or regular places of business, Committee and subcommittee members engaged in Committee or subcommittee business that the Designated Federal Officer (DFO) has approved may be allowed travel expenses, including per diem in lieu of subsistence, as authorized by 5 U.S.C. 5703, in the same manner as persons employed intermittently in Federal Government service.

Public disclosure of information: Before including your address, phone number, email address, or other personal identifying information with your nomination, you should be aware that your entire nomination—including your personal identifying information—may be made publicly available at any time. While you can ask us in your nomination to withhold your personal identifying information from public review, we cannot guarantee that we will be able to do so.

Authority: 54 U.S.C. 100906

Alma Ripps,
Chief, Office of Policy.

[FR Doc. 2018-23015 Filed 10-19-18; 8:45 am]

BILLING CODE 4312-52-P